DEPARTMENT OF ENERGY

Federal Energy Regulatory Commission

[Docket No. ER07-738-000]

Duke Energy Carolinas, LLC; Notice of Filing

April 25, 2007.

Take notice that on April 9, 2007, Duke Energy Carolinas, LLC filed a notice informing the Federal Energy Regulatory Commission (Commission) that it adopts the revised Transmission Loading Relief (TRL), approved by the North American Electric Reliability Council, and that its Open Access Transmission Tariff, FERC Electric Tariff, Fourth Revised Volume No. 4, should be deemed to be modified to incorporate TRL procedures contained in Version 3 of the Reliability Standards, pursuant to the Commission's March 3, 2007 Order.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 30, 2007.

Kimberly D. Bose,
Secretary.

[FR Doc. E7-8407 Filed 5-2-07; 8:45 am]

BILLING CODE 6717-01-P